DEPARTMENT OF ENERGY

Federal Energy Regulatory Commission

Combined Notice of Filings #1

Take notice that the Commission received the following electric corporate filings:

Docket Numbers: EC25-106-000.

Applicants: Ohio Power Partners, LLC, AL MTWN LP Holdings, LLC, AL MTWN GP Holdings, LLC.

Description: Joint Application for Authorization Under Section 203 of the Federal Power Act of Ohio Power Partners, LLC, et al.

Filed Date: 6/17/25.

Accession Number: 20250617-5298.

Comment Date: 5 pm ET 7/8/25.

Take notice that the Commission received the following Complaints and Compliance filings in EL Dockets:

Docket Numbers: EL25-68-000; ER10-2564-014; ER10-2600-014; ER10-2289-014.

Applicants: UniSource Energy Development Company, UNS Electric, Inc., Tucson Electric Power Company, Tucson Electric Power Company.

Description: Tucson Electric Power Company, et al. submit response to 04/21/2025 Show Cause Order.

Filed Date: 6/18/25.

Accession Number: 20250618-5265.

Comment Date: 5 pm ET 7/9/25.

Take notice that the Commission received the following electric rate filings:

Docket Numbers: ER25-2232-001.

Applicants: Illinois Generation LLC.

Description: Tariff Amendment: Amended Shared Facilities Agreement to be effective 5/16/2025.

Filed Date: 6/20/25.

Accession Number: 20250620-5401.

Comment Date: 5 pm ET 7/11/25.

Docket Numbers: ER25-2562-000.

Applicants: Sycamore Creek Solar, LLC.

Description: Initial Rate Filing: Market-Based Rate Application to be effective 8/20/2025.

Filed Date: 6/20/25.

Accession Number: 20250620-5414.

Comment Date: 5 pm ET 7/11/25.

Docket Numbers: ER25-2563-000.

Applicants: Apple River Solar, LLC.

Description: Initial Rate Filing: Market-Based Rate Application to be effective 8/20/2025.

Filed Date: 6/20/25.

Accession Number: 20250620-5417.

Comment Date: 5 pm ET 7/11/25.

Docket Numbers: ER25-2564-000.

Applicants: PJM Interconnection, L.L.C.

Description: 205(d) Rate Filing: Ministerial Clean-up Filing of Tariff, Definitions G-H to be effective 11/1/2017.

Filed Date: 6/20/25.

Accession Number: 20250620-5418.

Comment Date: 5 pm ET 7/11/25.

Docket Numbers: ER25-2565-000.

Applicants: Jackson County Solar, LLC.

Description: Initial Rate Filing: Market-Based Rate Application to be effective 8/20/2025.

Filed Date: 6/20/25.

Accession Number: 20250620-5423.

Comment Date: 5 pm ET 7/11/25.

Docket Numbers: ER25-2566-000.

Applicants: Versant Power.

Description: Compliance filing: Order No. 676-K Compliance Filing and Request for Waivers to be effective 2/27/2026.

Filed Date: 6/23/25.

Accession Number: 20250623-5111.

Comment Date: 5 pm ET 7/14/25.

Docket Numbers: ER25-2567-000.

Applicants: Southwest Power Pool, Inc.

Description: 205(d) Rate Filing: 607R49 Evergy Kansas Central, Inc. NITSA NOA to be effective 6/1/2025.

Filed Date: 6/23/25.

Accession Number: 20250623-5122.

Comment Date: 5 pm ET 7/14/25.

Docket Numbers: ER25-2568-000.

Applicants: PJM Interconnection, L.L.C.

Description: 205(d) Rate Filing: Amendment to ISA, Service Agreement No. 6119; Queue Position No. AE2-285 to be effective 8/23/2025.

Filed Date: 6/23/25.

Accession Number: 20250623-5137.

Comment Date: 5 pm ET 7/14/25.

Docket Numbers: ER25-2569-000.

Applicants: Southwest Power Pool, Inc.

Description: 205(d) Rate Filing: 1885R16 Evergy Kansas Central, Inc. NITSA NOA to be effective 9/1/2025.

Filed Date: 6/23/25.

Accession Number: 20250623-5152.

Comment Date: 5 pm ET 7/14/25.

Docket Numbers: ER25-2570-000.

Applicants: Southwest Power Pool, Inc.

Description: 205(d) Rate Filing: 1887R16 Evergy Kansas Central, Inc.—Elsmore NITSA NOA to be effective 9/1/2025.

Filed Date: 6/23/25.

Accession Number: 20250623-5164.

Comment Date: 5 pm ET 7/14/25.

Docket Numbers: ER25-2571-000.

Applicants: Alabama Power Company, Georgia Power Company, Mississippi Power Company.

Description: 205(d) Rate Filing: Alabama Power Company submits tariff filing per 35.13(a)(2)(iii: SR Stockton I LGIA Filing to be effective 6/6/2025.

Filed Date: 6/23/25.

Accession Number: 20250623-5196.

Comment Date: 5 pm ET 7/14/25.

Docket Numbers: ER25-2572-000.

Applicants: Alabama Power Company, Georgia Power Company, Mississippi Power Company.

Description: 205(d) Rate Filing: Alabama Power Company submits tariff filing per 35.13(a)(2)(iii: SR Stockton II LGIA Filing to be effective 6/6/2025.

Filed Date: 6/23/25.

Accession Number: 20250623-5199.

Comment Date: 5 pm ET 7/14/25.

Docket Numbers: ER25-2573-000.

Applicants: Alabama Power Company, Georgia Power Company, Mississippi Power Company.

Description: 205(d) Rate Filing: Alabama Power Company submits tariff filing per 35.13(a)(2)(iii: Stellar (Demopolis Solar) LGIA Filing to be effective 6/6/2025.

Filed Date: 6/23/25.

Accession Number: 20250623-5202.

Comment Date: 5 pm ET 7/14/25.

Docket Numbers: ER25-2574-000.

Applicants: Alabama Power Company, Georgia Power Company, Mississippi Power Company.

Description: 205(d) Rate Filing: Alabama Power Company submits tariff filing per 35.13(a)(2)(iii: Turkey Creek Solar Park LGIA Filing to be effective 6/6/2025.

Filed Date: 6/23/25.

Accession Number: 20250623-5204.

Comment Date: 5 pm ET 7/14/25.

Docket Numbers: ER25-2575-000.

Applicants: Alabama Power Company, Georgia Power Company, Mississippi Power Company.

Description: 205(d) Rate Filing: Alabama Power Company submits tariff filing per 35.13(a)(2)(iii: Wadley Solar Farm LGIA Filing to be effective 6/9/2025.

Filed Date: 6/23/25.

Accession Number: 20250623-5207.

Comment Date: 5 pm ET 7/14/25.

Docket Numbers: ER25-2576-000.

Applicants: Alabama Power Company, Georgia Power Company, Mississippi Power Company.

Description: 205(d) Rate Filing: Alabama Power Company submits tariff filing per 35.13(a)(2)(iii: Origis Development (Loblolly Solar) LGIA Filing to be effective 6/9/2025.

Filed Date: 6/23/25.

Accession Number: 20250623-5211.

Comment Date: 5 pm ET 7/14/25.

Docket Numbers: ER25-2577-000.

Applicants: Alabama Power Company, Georgia Power Company, Mississippi Power Company.

Description: 205(d) Rate Filing: Alabama Power Company submits tariff filing per 35.13(a)(2)(iii: SR Salem LGIA Filing to be effective 6/9/2025.

Filed Date: 6/23/25.

Accession Number: 20250623-5212.

Comment Date: 5 p.m. ET 7/14/25.

Docket Numbers: ER25-2578-000.

Applicants: Alabama Power Company, Georgia Power Company, Mississippi Power Company.

Description: 205(d) Rate Filing: Alabama Power Company submits tariff filing per 35.13(a)(2)(iii: SR Hope Hull LGIA Amendment Filing to be effective 6/6/2025.

Filed Date: 6/23/25.

Accession Number: 20250623-5215.

Comment Date: 5 p.m. ET 7/14/25.

Docket Numbers: ER25-2579-000.

Applicants: Southwest Power Pool, Inc.

Description: 205(d) Rate Filing: 2562R16 Kansas Municipal Energy Agency NITSA and NOA to be effective 9/1/2025.

Filed Date: 6/23/25.

Accession Number: 20250623-5236.

Comment Date: 5 p.m. ET 7/14/25.

Docket Numbers: ER25-2580-000.

Applicants: Blackford Solar Energy, LLC.

Description: 205(d) Rate Filing: Revised Market-Based Rate Tariff to be effective 6/24/2025.

Filed Date: 6/23/25.

Accession Number: 20250623-5238.

Comment Date: 5 p.m. ET 7/14/25.

Docket Numbers: ER25-2581-000.

Applicants: Blackford Wind Energy, LLC.

Description: 205(d) Rate Filing: Revised Market-Based Rate Tariff to be effective 6/24/2025.

Filed Date: 6/23/25.

Accession Number: 20250623-5240.

Comment Date: 5 p.m. ET 7/14/25.

Docket Numbers: ER25-2582-000.

Applicants: Elisabeth Solar, LLC.

Description: 205(d) Rate Filing: Revised Market-Based Rate Tariff to be effective 6/24/2025.

Filed Date: 6/23/25.

Accession Number: 20250623-5252.

Comment Date: 5 p.m. ET 7/14/25.

Docket Numbers: ER25-2583-000.

Applicants: Midcontinent Independent System Operator, Inc.

Description: 205(d) Rate Filing: 2025-06-23_SA 4500 Ameren Illinois-CG Pike Creek GIA (J1831) to be effective 8/23/2025.

Filed Date: 6/23/25.

Accession Number: 20250623-5253.

Comment Date: 5 p.m. ET 7/14/25.

Docket Numbers: ER25-2584-000.

Applicants: Hoosier Line Energy, LLC.

Description: 205(d) Rate Filing: Revised Market-Based Rate Tariff to be effective 6/24/2025.

Filed Date: 6/23/25.

Accession Number: 20250623-5258.

Comment Date: 5 p.m. ET 7/14/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: June 23, 2025.
Carlos D. Clay,
Deputy Secretary.

[FR Doc. 2025-11770 Filed 6-25-25; 8:45 am]

BILLING CODE 6717-01-P